DEPARTMENT OF EDUCATION

Applications for New Awards; Education Research and Special Education Research Grant Programs; Correction

AGENCY: Institute of Education Sciences, Department of Education.

ACTION: Notice; correction.

Overview Information

Education Research and Special Education Research Grant Programs. Applications for New Awards. CFDA Nos: 84.305A, 84.305B, 84.305D, 84.305E, 84.305H, 84.324A, 84.324B, and 84.324D.

SUMMARY: On March 6, 2012, the Institute of Education Sciences in the U.S. Department of Education published in the Federal Register (77 FR 13297) a notice inviting applications for new awards for fiscal year 2013 for the Education Research and Special Education Research Grant Programs. This notice makes several corrections to the March 6, 2012, notice inviting applications (March 6 NIA).

SUPPLEMENTARY INFORMATION: In the March 6 NIA, the Department announced 13 competitions to be held under the Education Research and Special Education Research Grant Programs. The chart at the end of the March 6 NIA (see 77 FR 13297, 13302-13303) provided competition-specific information, including the dates application packages would be available as well as the deadline dates for applications. The entries in the chart corresponding to the following three competitions contained errors: Research on Statistical and Research Methodology in Education (CFDA 84.305D), Evaluation of State and Local Education Programs and Policies (CFDA 84.305E), and Researcher-Practitioner Partnerships in Education Research (CFDA 84.305H). Following is a description of the errors along with the correct information:

For the CFDA 84.305D competition:

We indicated that the application package would be available on July 19, 2012; however, the correct date the application package will be available is April 19, 2012.

We also indicated that that the deadline for transmittal of applications would be September 20, 2012; however, the correct deadline is June 21, 2012.

For the CFDA 84.305E competition:

We indicated that the application package would be available on April 19, 2012; however, the correct date the application package will be available is July 19, 2012.

We also indicated that that the deadline for transmittal of applications would be June 21, 2012; however, the correct deadline is September 20, 2012.

For the CFDA 84.305H competition:

We indicated that the estimated range of awards was $100,000 to $400,000; however, the correct range is $50,000 to $200,000.

We also incorrectly indicated that the project period for this grant would be up to 3 years; the corrected project period is up to 2 years.

For these reasons, we correct the chart containing this information. On pages 13302-13303 of the March 6 NIA, the chart is corrected to appear as follows:

Institute Of Education Sciences
[FY 2013 Grant Competitions To Support Education Research and Special Education Research]
CFDA number and name | Application package available | Deadline for transmittal of applications | Estimated range of awards* | Project period | For further information contact
National Center for Education Research (NCER)
84.305A-1 Education Research:
Reading and Writing
Mathematics and Science Education
Cognition and Student Learning
Effective Teachers and Effective Teaching
Social and Behavioral Context for Academic Learning
Improving Education Systems: Policies, Organization, Management, and Leadership | April 19, 2012 | June 21, 2012 | $100,000 to $1,000,000 | Up to 5 years | Emily Doolittle Emily.Doolittle@ed.gov
Early Learning Programs and Policies
English Learners
Postsecondary and Adult Education
Education Technology
84.305A-2 Education Research:
Reading and Writing
Mathematics and Science Education
Cognition and Student Learning
Effective Teachers and Effective Teaching
Social and Behavioral Context for Academic Learning
Improving Education Systems: Policies, Organization, Management, and Leadership | July 19, 2012 | September 20, 2012 | $100,000 to $1,000,000 | Up to 5 years | Emily Doolittle Emily.Doolittle@ed.gov
Early Learning Programs and Policies
English Learners
Postsecondary and Adult Education
Education Technology
84.305B Research Training Programs in the Education Sciences:
Postdoctoral Research Training Program | July 19, 2012 | September 20, 2012 | $50,000 to $300,000 | Up to 5 years | Meredith Larson Meredith.Larson@ed.gov
Researcher and Policymaker Training Program
84.305D Research on Statistical and Research Methodology in Education | April 19, 2012 | June 21, 2012 | $40,000 to $300,000 | Up to 3 years | Phill Gagne Phill.Gagne@ed.gov
84.305E Evaluation of State and Local Education Programs and Policies | July 19, 2012 | September 20, 2012 | $200,000 to $1,000,000 | Up to 5 years | Allen Ruby Allen.Ruby@ed.gov
84.305H Researcher-Practitioner Partnerships in Education Research | July 19, 2012 | September 20, 2012 | $50,000 to $200,000 | Up to 2 years | Allen Ruby Allen.Ruby@ed.gov
National Center for Special Education Research (NCSER)
84.324A-1 Special Education Research:
Early Intervention and Early Learning in Special Education
Reading, Writing, and Language Development
Mathematics and Science Education
Social and Behavioral Outcomes to Support Learning
Transition Outcomes for Special Education Secondary Students
Cognition and Student Learning in Special Education | April 19, 2012 | June 21, 2012 | $100,000 to $1,000,000 | Up to 5 years | Jacquelyn Buckley Jacquelyn.Buckley@ed.gov
Professional Development for Teachers and Related Services Providers
Special Education Policy, Finance, and Systems
Autism Spectrum Disorders
Technology for Special Education
Families of Children with Disabilities
84.324A-2 Special Education Research:
Early Intervention and Early Learning in Special Education
Reading, Writing, and Language Development
Mathematics and Science Education
Social and Behavioral Outcomes to Support Learning
Transition Outcomes for Special Education Secondary Students
Cognition and Student Learning in Special Education | July 19, 2012 | September 20, 2012 | $100,000 to $1,000,000 | Up to 5 years | Jacquelyn Buckley Jacquelyn.Buckley@ed.gov
Professional Development for Teachers and Related Services Providers
Special Education Policy, Finance, and Systems
Autism Spectrum Disorders
Technology for Special Education
Families of Children with Disabilities
84.324B Special Education Research Training:
Early Career Development and Mentoring Program in Special Education Research | July 19, 2012 | September 20, 2012 | $50,000 to $100,000 | Up to 5 years | Amy Sussman Amy.Sussman@ed.gov
84.324D Accelerating the Academic Achievement of Students with Disabilities Research Initiative | July 19, 2012 | September 20, 2012 | $1,000,000 to $2,000,000 | Up to 5 years | Kristen Lauer Kristen.Lauer@ed.gov
*These estimates are annual amounts.
Note: The Department is not bound by any estimates in this notice.
Note: If you use a telecommunications device for the deaf (TDD) or a test telephone (TTY), call the Federal Relay Service, toll free, at 1-800-877-8339.

Program Authority: 20 U.S.C. 9501 et seq.

VIII. Agency Contact

FOR FURTHER INFORMATION CONTACT: The contact person associated with a particular research competition is listed in the chart and in the RFA package. If you use a telecommunications device for the deaf (TDD), call the Federal Relay Service (FRS), toll free, at 1-800-877-8339.

Accessible Format: Individuals with disabilities can obtain this document in an accessible format (e.g., braille, large print, audiotape, or compact disc) on request to the appropriate program contact person listed in the chart.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 3, 2012.
John Q. Easton,
Director, Institute of Education Sciences.

[FR Doc. 2012-8388 Filed 4-5-12; 8:45 am]

BILLING CODE 4000-01-P